ENVIRONMENTAL PROTECTION AGENCY

[EPA-HQ-OW-2020-0433; FRL-10014-43-OW]

Proposed Information Collection Request; Comment Request; Public Notification Requirements for Combined Sewer Overflows in the Great Lakes Basin (Renewal)

AGENCY: Environmental Protection Agency (EPA).

ACTION: Notice.

SUMMARY: The Environmental Protection Agency (EPA) is planning to submit an information collection request (ICR), “Public Notification Requirements for Combined Sewer Overflows in the Great Lakes Basin (Renewal)” (EPA ICR No. 2562.02, OMB Control No. 2040-0293) to the Office of Management and Budget (OMB) for review and approval in accordance with the Paperwork Reduction Act (PRA). Before doing so, EPA is soliciting public comments on specific aspects of the proposed information collection. This is a proposed extension of the ICR which is currently approved through April 30, 2021. An Agency may not conduct or sponsor and a person is not required to respond to a collection of information unless it displays a currently valid OMB control number.

DATES: Comments must be submitted on or before November 2, 2020.

ADDRESSES: You may send comments, identified by Docket ID No. EPA-HQ-OW-2020-0433, by any of the following methods:

• Federal eRulemaking Portal: https://www.regulations.gov/ (our preferred method). Follow the online instructions for submitting comments.

• Email: Baehr.Joshua@epa.gov. Include Docket ID No. EPA-HQ-OW-2020-0433 in the subject line of the message.

Instructions: All submissions received must include the Docket ID No. for this rulemaking. Comments received may be posted without change to https://www.regulations.gov/, including any personal information provided. For detailed instructions on sending comments and additional information on the rulemaking process, see the “How do I submit written comments?” heading of the SUPPLEMENTARY INFORMATION section of this document. Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov or email, as there may be a temporary delay in processing mail and faxes. Hand deliveries may be received by scheduled appointment only. For further information on EPA Docket Center services and the current status, please visit us online at https://www.epa.gov/dockets.

FOR FURTHER INFORMATION CONTACT: Joshua Baehr, National Program Branch, Water Permits Division, OWM Mail Code: 4203M, Environmental Protection Agency, 1201 Constitution Ave. NW, Washington, DC 20460; telephone number: (202) 564-2277; email address: Baehr.Joshua@epa.gov.

SUPPLEMENTARY INFORMATION:

I. How do I submit written comments?

Submit your comments, identified by Docket ID No. EPA-HQ-OW-2020-0433, at https://www.regulations.gov (our preferred method), or the other methods identified in the ADDRESSES section. Once submitted, comments cannot be edited or removed from the docket. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

The EPA is temporarily suspending its Docket Center and Reading Room for public visitors to reduce the risk of transmitting COVID-19. Written comments submitted by mail are temporarily suspended and no hand deliveries will be accepted. Our Docket Center staff will continue to provide remote customer service via email, phone, and webform. We encourage the public to submit comments via https://www.regulations.gov. For further information and updates on EPA Docket Center services, please visit us online at https://www.epa.gov/dockets.

The EPA continues to carefully and continuously monitor information from the Centers for Disease Control and Prevention (CDC), local area health departments, and our Federal partners so that we can respond rapidly as conditions change regarding COVID-19.

II. Executive Summary

Supporting documents which explain in detail the information that the EPA will be collecting are available in the public docket for this ICR. The docket can be viewed online at https://www.regulations.gov. The telephone number for the Docket Center is 202-566-1744. For additional information about EPA's public docket, visit https://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This ICR calculates the incremental increase in burden and costs associated with implementation of the Combined Sewer Overflow (CSO) public notification requirements for CSO permittees in the Great Lakes Basin approved during the Public Notice Requirements for Combined Sewer Overflow Discharges to the Great Lakes rulemaking. In 2018 EPA established public notification requirements for permittees authorized to discharge from a CSO to the Great Lakes Basin [82 FR 4233]. These requirements address: 1. Signage; 2. notification to local public health department and other potentially affected public entities; 3. notification to the public; and 4. annual notice. Additionally, permittees are required to develop a public notification plan and seek and consider input on these plans from local public health departments and other potentially affected public entities. The public notification plans also provide state permit writers with detailed information needed to write permit conditions. The rule protects public health by ensuring timely notification to the public and to public health departments, public drinking water facilities and other potentially affected public entities, including Indian tribes. It provides additional specificity beyond existing public notification requirements to ensure timely and consistent communication to the public regarding CSO discharges to the Great Lakes Basin. Timely notice may allow the public and affected public entities to take steps to reduce the public's potential exposure to pathogens associated with human sewage, which can cause a wide variety of health effects, including gastrointestinal, skin, ear, respiratory, eye, neurologic, and wound infections.

Form Numbers: None.

Respondents/affected entities: CSO permittees, Great Lakes States (Illinois, Indiana, Michigan, New York, Ohio, Pennsylvania, and Wisconsin).

Respondent's obligation to respond: Mandatory. 40 CFR 122.38.

Estimated number of respondents: 164 (157 permittees and 7 States).

Frequency of response: Responses include one-time implementation activities, such as signage, activities that occur once per year, such as providing annual notice, and initial and follow-up activities that would occur during and after CSO discharge events.

Total estimated burden: 8,694 hours (per year). Burden is defined at 5 CFR 1320.03(b).

Total estimated cost: $426,059 (per year), includes $5,412 in annualized capital or operation & maintenance costs.

Changes in Estimates: There is an estimated net decrease of 1,607 burden hours since the prior approved ICR. The decrease in labor hours from the prior ICR is due to the completion of startup activities performed during the first year of the prior ICR. Also, one permittee (Woodville, Ohio NPDES Permit No. OH0020591) separated the city's combined sewer system and therefore, is no longer within the scope of the rule and this updated ICR. There was an increase in labor costs ($31,841) due to a projected increase in labor base wages and total compensation (i.e., benefits). There was a decrease in non-labor costs ($65,039) due to a decrease in capital costs after the initial startup period during the first year of the prior ICR. Overall, total burden hours decreased by 1,607 hours and total burden cost decreased by $31,048 for the three-year period.

Dated: August 27, 2020.
Andrew D. Sawyers,
Director, Office of Wastewater Management.

[FR Doc. 2020-19350 Filed 9-1-20; 8:45 am]

BILLING CODE 6560-50-P